FEDERAL MARITIME COMMISSION

[Petition No. P3-16]

Petition of APL Co. PTE Ltd; for An Exemption From Commission Regulations; Notice of Filing and Request for Comments

This is to provide notice of filing and to invite comments on or before September 1, 2016, regarding the Petition described below.

APL Co. Pte Ltd on behalf of itself and American President Lines, Ltd. (Petitioner), has petitioned the Commission pursuant to 46 CFR 502.76 of the Commission's Rules of Practice and Procedure, for an exemption from the Commission's rules requiring individual service contract amendments, 46 CFR. 530.10, and the rule prohibiting duplicative tariffs, 46 CFR 520.7(a)(4). Specifically, Petitioner explains that “APL is currently majority owned by CMA CGM S.A. (“CMA CGM”) a vessel operating common carrier headquartered in Marseille, France. On or about September 1, 2016, APL will become delisted from the Singaporean stock exchange and be 100% owned by CMA CGM. At that time, CMA CGM will begin to consolidate certain operations under its various brands worldwide.” In particular, CMA CGM will transfer the slot allocations of its wholly owned subsidiary ANL Singapore Pte. Ltd. (“ANL”) to APL effective October 1, 2016.

Petitioner requests that in lieu of publishing amendments to each of approximately 600 service contracts effected by the transfer of ANL's transpacific business, “the Commission permit APL to send a universal notice to the Commission and to each of the service contract parties.” In addition, because existing ANL tariffs “will be taken over by APL and will be renumbered and republished under APL's organization number,” Petitioners also seek a waiver to permit insertion of notices in existing ANL and new APL tariffs.

The Petition in its entirety is posted on the Commission's Web site at http://www.fmc.gov/P3-16. Comments filed in response to this Petition also will be posted on the Commission's Web site at this location.

In order for the Commission to make a thorough evaluation of the Petition, interested persons are requested to submit comments in reply to the Petition no later than September 1, 2016. Commenters must send an original and 5 copies to the Secretary, Federal Maritime Commission, 800 North Capitol Street NW., Washington, DC 20573-0001, and be served on Eric R. Swett, VP & General Counsel, Americas, APL Limited, 16220 N. Scottsdale Rd., Scottsdale, AZ 85254-1781. A text-searchable PDF copy of the comment must also be sent as an email attachment to Secretary@fmc.gov, and include in the subject line: “P3-16 (Commenter/Company Name).” Replies containing confidential information should not be submitted by email.

Rachel E. Dickon,
Assistant Secretary.

[FR Doc. 2016-20220 Filed 8-23-16; 8:45 am]

BILLING CODE 6731-AA-P